DEPARTMENT OF VETERANS AFFAIRS

Advisory Committee on the Readjustment of Veterans; Notice of Meeting

The Department of Veterans Affairs (VA) gives notice under the Federal Advisory Committee Act that the Advisory Committee on the Readjustment of Veterans will have a closed meeting at the Department of Veterans Affairs Vet Center 721 at 9504 IH 35, North, San Antonio, Texas 78233. The meetings will be held on December 5 and 6, 2018. Sessions are open to the public, except when the Committee is conducting tours of VA facilities, participating in offsite events, participating in workgroup sessions, and conducting official Administrative business. Tours of the VA facilities are closed, to protect Veterans' privacy and personal information.

The purpose of the Committee is to advise the Department of Veterans Affairs (VA) regarding the provision by VA of benefits and services to assist Veterans in the readjustment to civilian life. In carrying out this duty, the Committee shall take into account the needs of Veterans who served in combat theaters of operation. The Committee assembles, reviews, and assesses information relating to the needs of Veterans readjusting to civilian life and the effectiveness of VA services in assisting Veterans in that readjustment.

On Wednesday, December 5, 2018, the Committee will hold a closed session at the San Antonio, TX Vet Center from 8:00 a.m. to 4:30 p.m., while members tour the facility, and meet with key Vet Center staff as well as a panel of individuals who use Vet Center services. The meeting will focus on Veteran experience, and members will solicit information from key staff from various VA entities across San Antonio, and have strategic discussion about what they learned from the interactions. Because the issues discussed will most likely include information learned during the tour and in conversation with service users, to protect their privacy the session will be closed.

On December 6, the Committee will convene an open session from 8:00 a.m. to 10:00 a.m., when they will receive an update from VA Readjustment Counseling Service and Mental Health leadership regarding collective efforts in suicide prevention, and then will engage in strategic discussions formulating conclusions and recommendations for the 20th annual report to Congress. The meeting will adjourn at 10:00 a.m.

This field visit is closed to the public in accordance with 5 U.S.C. 552b (c) (6). Exemption 6 permits the Committee to close a meeting that is likely to disclose information of a personal nature where disclosure would constitute a clearly unwarranted invasion of personal privacy, which will most likely be the case throughout this field visit.

The agenda will include time for Executive Sessions, where the committee will focus on the annual operations plan for 2019/2020, and no time will be allotted for receiving oral comments from the public; however, the committee will accept written comments from interested parties on issues outlined in the meeting agenda or other issues regarding the readjustment of Veterans. Parties should contact Ms. Sherry Moravy, via email at 10RCSAction@va.gov, or by mail at Department of Veterans Affairs, Readjustment Counseling Service (10RCS), 810 Vermont Avenue, Washington, DC 20420. Any member of the public seeking additional information should contact Ms. Moravy to the email address noted above.

Dated: November 19, 2018.
Jelessa M. Burney,
Federal Advisory Committee Management Officer.

[FR Doc. 2018-25507 Filed 11-21-18; 8:45 am]

BILLING CODE 8320-01-P